DEPARTMENT OF TRANSPORTATION

Federal Aviation Administration

[Docket No. FAA-2023-2226]

Notice of Intent To Designate as Abandoned Supplemental Type Certificate No. SA3-483

AGENCY: Federal Aviation Administration (FAA), DOT.

ACTION: Notice of intent to Designate Supplemental Type Certificate as abandoned; request for comments.

SUMMARY: This Notice announces the FAA's intent to designate Supplemental Type Certificate (STC) No. SA3-483 as abandoned and make the related engineering data available upon request. The FAA has received a request to provide engineering data concerning this STC. The FAA has been unsuccessful in contacting the STC holder concerning the STC. This action is intended to enhance aviation safety.

DATES: We must receive all comments by May 20, 2024.

ADDRESSES: You may send comments on this notice by any of the following methods:

• Federal eRulemaking Portal: Go to regulations.gov. Follow the instructions for submitting comments.

• Mail: JoWanna Jenkins, Program Management Specialist, Central Certification Branch (Chicago), 2300 East Devon Avenue, Room 107, Des Plaines, IL 60018.

• Email: jowanna.jenkins@faa.gov. Include “Docket No. FAA-2023-2226” in the subject line of the message.

• Hand Delivery: Deliver to Mail address above between 9 a.m. and 5 p.m., Monday through Friday, except Federal holidays.

FOR FURTHER INFORMATION CONTACT: JoWanna Jenkins, Program Management Specialist, Central Certification Branch (Chicago), 2300 East Devon Avenue, Room 107, Des Plaines, IL 60018; telephone 847-294-7145; email jowanna.jenkins@faa.gov.

SUPPLEMENTARY INFORMATION:

Comments Invited

The FAA invites interested parties to provide comments, written data, views, or arguments relating to this notice. Send your comments to an address listed under the ADDRESSES section. Include “Docket No. FAA-2023-2226” at the beginning of your comments. The FAA will consider all comments received on or before the closing date. All comments received will be available in the docket for examination by interested persons.

Background

The FAA is posting this notice to inform the public of the intent to designate as abandoned STC No. SA3-483, which installs a Continental Model C85-12 engine on a Mooney Model M-18C 55 airplane, and subsequently release the related engineering data.

The FAA has received a third-party request for the release of the aforementioned engineering data under the provisions of the Freedom of Information Act (FOIA), 5 U.S.C. 552. The FAA cannot release commercial or financial information under FOIA without the permission of the data owner. However, in accordance with title 49 of the United States Code section 44704(a)(5), the FAA can provide STC “engineering data” it possesses for STC maintenance or improvement, upon request, if the following conditions are met:

1. The FAA determines the STC has been inactive for three years or more;

2. Using due diligence, the FAA is unable to locate the owner of record or the owner of record's heir; and

3. The availability of such data will enhance aviation safety.

There has been no activity with this STC holder for more than three years.

On August 24, 2023, the FAA sent a registered letter to the STC holder, Donna R. Sparks, at her last known address, 6414 East 86th Street, Kansas City, MO 64138. The letter informed Ms. Sparks that the FAA had received a request for engineering data related to STC No. SA3-483 and was conducting a due diligence search to determine whether the STC was inactive and may be considered abandoned. The letter further requested Ms. Sparks to respond in writing within 60 days and state whether she is the holder of the STC. The FAA also attempted to contact Ms. Sparks by other means, including telephone communication, email, and certified mail, without success.

Information Requested

If you are the owner or heir or a transferee of STC No. SA3-483 or have any knowledge regarding who may now hold STC No. SA3-483, please contact JoWanna Jenkins using a method described in this notice under FOR FURTHER INFORMATION CONTACT. If you are the heir of the owner, or the owner by transfer, of STC No. SA3-483, you must provide a notarized copy of your government-issued identification with a letter and background establishing your ownership of the STC and, if applicable, your relationship as the heir to the deceased holder of the STC.

Conclusion

If the FAA does not receive any response by May 20, 2024, the FAA will consider STC No. SA3-483 abandoned, and the FAA will proceed with the release of the requested data. This action is for the purpose of maintaining the airworthiness of an aircraft and enhancing aviation safety.

Issued on November 16, 2023.
Ross Landes,
Deputy Director for Regulatory Operations, Compliance & Airworthiness Division, Aircraft Certification Service.

[FR Doc. 2023-25764 Filed 11-21-23; 8:45 am]

BILLING CODE 4910-10-P